FEDERAL COMMUNICATIONS COMMISSION

[FR ID 332031]

Privacy Act of 1974; Matching Program

AGENCY: Federal Communications Commission.

ACTION: Notice.

SUMMARY: In accordance with the Privacy Act of 1974, as amended (“Privacy Act”), this document announces a new computer matching program the Federal Communications Commission (“FCC” or “Commission” or “Agency”) and the Universal Service Administrative Company (USAC) will conduct with the Wisconsin Department of Health Services (DHS), and the Wisconsin Department of Revenue (DOR). The purpose of this matching program is to verify the eligibility of applicants to and subscribers of Lifeline, and the Affordable Connectivity Program (ACP), both of which are administered by USAC under the direction of the FCC. More information about these programs is provided in the SUPPLEMENTARY INFORMATION section below.

DATES: Written comments are due on or before March 27, 2026. This computer matching program will commence on March 27, 2026, and will conclude after 18 months.

ADDRESSES: Send comments to Shana Yates, FCC, 45 L Street NE, Washington, DC 20554, or to Privacy@fcc.gov.

FOR FURTHER INFORMATION CONTACT: Shana Yates at (202) 418-0683 or Privacy@fcc.gov.

SUPPLEMENTARY INFORMATION: The Lifeline program provides support for discounted broadband and voice services to low-income consumers. Lifeline is administered by the Universal Service Administrative Company (USAC) under FCC direction. Consumers qualify for Lifeline through proof of income or participation in a qualifying program, such as Medicaid, the Supplemental Nutritional Assistance Program (SNAP), Federal Public Housing Assistance, Supplemental Security Income (SSI), Veterans and Survivors Pension Benefit, or various Tribal-specific federal assistance programs.

In the Consolidated Appropriations Act, 2021, Public Law 116-260, 134 Stat. 1182, 2129-36 (2020), Congress created the Emergency Broadband Benefit Program, and directed use of the National Verifier to determine eligibility based on various criteria, including the qualifications for Lifeline (Medicaid, SNAP, etc.). EBBP provided $3.2 billion in monthly consumer discounts for broadband service and one-time provider reimbursement for a connected device (laptop, desktop computer or tablet). In the Infrastructure Investment and Jobs Act, Public Law 117-58, 135 Stat. 429, 1238-44 (2021) (codified at 47 U.S.C. 1751-52), Congress modified and extended EBBP, provided an additional $14.2 billion, and renamed it the Affordable Connectivity Program (ACP). A household may qualify for the ACP benefit under various criteria, including an individual qualifying for the FCC's Lifeline program.

In a Report and Order adopted on March 31, 2016, (81 FR 33026, May 24, 2016) (2016 Lifeline Modernization Order), the Commission ordered USAC to create a National Lifeline Eligibility Verifier (“National Verifier”), including the National Lifeline Eligibility Database (LED), that would match data about Lifeline applicants and subscribers with other data sources to verify the eligibility of an applicant or subscriber. The Commission found that the National Verifier would reduce compliance costs for Lifeline service providers, improve service for Lifeline subscribers, and reduce waste, fraud, and abuse in the program.

The Consolidated Appropriations Act of 2021 directs the FCC to leverage the National Verifier to verify applicants' eligibility for ACP. The purpose of this matching program is to verify the eligibility of Lifeline and ACP applicants and subscribers by determining whether they receive SNAP, SSI, and Medicaid benefits administered by the Wisconsin Department of Health Services (DHS), and the Wisconsin Department of Revenue (DOR).

Participating Agencies

Wisconsin Department of Health Services (DHS), and the Wisconsin Department of Revenue (DOR) (source agency); Federal Communications Commission (recipient agency) and Universal Service Administrative Company.

Authority for Conducting the Matching Program

The authority to conduct the matching program for the FCC's ACP is 47 U.S.C. 1752(a)-(b). The authority to conduct the matching program for the FCC's Lifeline program is 47 U.S.C. 254(a)-(c), (j).

Purpose(s)

The purpose of this new matching agreement is to verify the eligibility of applicants and subscribers to Lifeline, as well as to ACP and other Federal programs that use qualification for Lifeline as an eligibility criterion. This new agreement will permit eligibility verification for the Lifeline program and ACP by checking an applicant's/subscriber's participation in SNAP, SSI, and Medicaid in Wisconsin Department of Health Services (DHS), and the Wisconsin Department of Revenue (DOR). Under FCC rules, consumers receiving these benefits qualify for Lifeline discounts and also for ACP benefits.

Categories of Individuals

The categories of individuals whose information is involved in the matching program include, but are not limited to, those individuals who have applied for Lifeline and/or ACP benefits; are currently receiving Lifeline and/or ACP benefits; are individuals who enable another individual in their household to qualify for Lifeline and/or ACP benefits; are minors whose status qualifies a parent or guardian for Lifeline and/or ACP benefits; or are individuals who have received Lifeline and/or ACP benefits.

Categories of Records

The categories of records involved in the matching program include the last four digits of the applicant's Social Security Number, date of birth, first and last name. The National Verifier will transfer these data elements to the Wisconsin Department of Health Services (DHS), and the Wisconsin Department of Revenue (DOR) which will respond either “yes” or “no” that the individual is enrolled in a qualifying assistance program: SNAP, SSI, and Medicaid administered by the Wisconsin Department of Health Services (DHS), and the Wisconsin Department of Revenue (DOR).

System(s) of Records

The records shared as part of this matching program reside in the Lifeline system of records, FCC/WCB-1, Lifeline, which was published in the Federal Register at 89 FR 28777 (Apr. 19, 2024).

The records shared as part of this matching program reside in the ACP system of records, FCC/WCB-3, Affordable Connectivity Program, which was published in the Federal Register at 89 FR 28780 (Apr. 19, 2024).

Federal Communications Commission.
Marlene Dortch,
Secretary.

[FR Doc. 2026-03745 Filed 2-24-26; 8:45 am]

BILLING CODE 6712-01-P